DEPARTMENT OF THE INTERIOR

Bureau of Land Management

[NV-952-07-1420-BJ]

Filing of Plats of Survey; Nevada

AGENCY: Bureau of Land Management, Department of the Interior.

ACTION: Notice.

SUMMARY: The purpose of this notice is to inform the public and interested State and local government officials of the filing of Plats of Survey in Nevada.

DATES: Effective Dates: Filing is effective at 10 a.m. on the date indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Plat of Survey of the following described lands was officially filed at the Nevada State Office, Reno, Nevada, on January 17, 2007:

The plat, representing the dependent resurvey of a portion of the east boundary and a portion of the subdivisional lines, and the subdivision of section 27, Township 20 South, Range 56 East, Mount Diablo Meridian, Nevada, under Group No. 818, was accepted January 12, 2007.

This survey was executed to meet certain administrative needs of the U.S. Forest Service.

2. The Plat of Survey of the following described lands was officially filed at the Nevada State Office, Reno, Nevada, on March 8, 2007.

The plat representing the entire survey record of the survey of a portion of the east boundary of Township 15 South, Range 62 East, Mount Diablo Meridian, Nevada, under Group No. 820, was accepted March 6, 2007.

This survey was executed to meet certain administrative needs of the U.S. Fish and Wildlife Service.

3. The Plat of Survey of the following described lands was officially filed at the Nevada State Office, Reno, Nevada, on March 15, 2007.

The plat representing the dependent resurvey of the Fifth Standard Parallel South, through a portion of Range 54 East, and a portion of the subdivisional lines, and the subdivision of section 2, Township 21 South, Range 54 East, Mount Diablo Meridian, Nevada, executed under Group No. 799, was accepted March 14, 2007.

This survey was executed to meet certain administrative needs of the Bureau of Land Management.

4. The above-listed surveys are now the basic record for describing the lands for all authorized purposes. These surveys have been placed in the open files in the BLM Nevada State Office and are available to the public as a matter of information. Copies of the surveys may be furnished to the public upon payment of the appropriate fees.

Dated: April 5, 2007.
David D. Morlan,
Chief Cadastral Surveyor, Nevada.

[FR Doc. E7-6981 Filed 4-12-07; 8:45 am]

BILLING CODE 4310-HC-P